DEPARTMENT OF TRANSPORTATION

Federal Aviation Administration

RTCA Government/Industry Air Traffic Management Advisory Committee (ATMAC)

AGENCY: Federal Aviation Administration (FAA), DOT.

ACTION: Notice of RTCA Government/Industry Air Traffic Management Advisory Committee (ATMAC).

SUMMARY: The FAA is issuing this notice to advise the public of a meeting of RTCA Government/Industry Air Traffic Management Advisory Committee (ATMAC).

DATES: The meeting will be held August 4, 2010, from 9 a.m. to 11 a.m.

ADDRESSES: The meeting will be held at RTCA Headquarters, Colson Board Room, 1828 L Street, NW., Suite 805, Washington, DC 20036.

METRO: Red Line—Farragut North Station (Use L Street Exit) Blue/Orange Line—Farragut West Station (Use 18th Street Exit).

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for the Air Traffic Management Advisory Committee meeting. The agenda will include:

• Opening Plenary (Welcome and Introductions).

• Trajectory Operations (TOps) Work Group Presentation of Guidance to SC-214 regarding ADS-C and 4DTRAD for ATMAC Discussion and Approval.

• Review of final recommendations of the ADS-B Work Group regarding ADS-B Services to legacy-equipped aircraft prior to mandated compliance date.

• Discussion of Next Gen Operations & Implementation Committee.

• Closing Plenary (Other Business, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on June 29, 2010.
Francisco Estrada C.,
RTCA Advisory Committee.

[FR Doc. 2010-16489 Filed 7-6-10; 8:45 am]

BILLING CODE 4910-13-P